DEPARTMENT OF ENERGY

Federal Energy Regulatory Commission

[Docket No. ER02-2001-000]

Electric Quarterly Reports; Notice of Electric Quarterly Reports Western Outreach Session

April 30, 2004.

On Monday, May 17, 2004, FERC Electric Quarterly Reports (EQR) staff will hold an EQR Outreach Session for western filers in conjunction with a May 18, 2004, EQR Working Group meeting hosted by the California Independent System Operator Corporation (CAISO). The FERC EQR Outreach Session will be held at the Lake Natoma Inn, 702 Gold Lake Drive, Folsom, California, and will run from 1 p.m. to 5 p.m. Barbara Bourque (EQR Program Manager), Steven Reich, and Mark Blazejowski will discuss ISO data mapping issues and address any other EQR questions or problems that filers have. Interested individuals should bring someone from their company who is familiar with the CAISO operations and settlement statements.

Those who would like to participate in the Monday EQR Outreach Session are asked to register online at FERC by 11 a.m. Pacific Time on Thursday, May 13, 2004, at http://www.ferc.gov/whats-new/registration/eqr-0517-form.asp. There is no registration fee. Questions and comments may be submitted in advance by filing them in Docket No. ER02-2001 as described below, or by e-mailing eqr@ferc.gov. Registration for Tuesday's (May 18, 2004) EQR Working Group meeting hosted by CAISO will be handled by the ISO. Further information about the EQR Working Group Meeting, which will run from 8 a.m. to 4:30 p.m. on May 18, 2004, at the CAISO headquarters, can be found at http://www.caiso.com/meetings/docs/04051718fercmeetings.pdf.

Interested parties wishing to file comments may do so under the above-captioned Docket Number. Those filings will be available for review at the Commission or may be viewed on the Commission's Web site at http://www.ferc.gov, using the “eLibrary” link. Enter the docket number excluding the last three digits in the docket number field to access the document. For assistance, contact FERC Online Support at FERCOnlineSupport@ferc.gov or via phone at (866) 208-3676 (toll-free). For TTY, contact (202) 502-8659.

For additional information, please contact Mark Blazejowski of FERC's Office of Market Oversight and Investigations at (202) 502-6055 or by e-mail, mark.blazejowski@ferc.gov.

Magalie R. Salas,
Secretary.

[FR Doc. E4-1036 Filed 5-7-04; 8:45 am]

BILLING CODE 6717-01-P